ENVIRONMENTAL PROTECTION AGENCY

[FRL-11421-01-OA]

Establishment of Historically Black Colleges and Universities (HBCUs) and Minority Serving Institutions (MSIs) Advisory Council

AGENCY: Environmental Protection Agency (EPA).

ACTION: Notice; establishment of the Historically Black Colleges and Universities and Minority Serving Institutions Advisory Council.

SUMMARY: As required by the Federal Advisory Committee Act (FACA), the United States Environmental Protection Agency (EPA) is giving notice that it is establishing the Historically Black Colleges and Universities and Minority Serving Institutions Advisory Council. The purpose of this committee is to provide advice and recommendations to the EPA Administrator on critical policy and technical issues to advance equity in economic and social opportunities for all Americans and strengthen the capacity of HBCUs and MSIs to provide the highest-quality education, participate in and benefit from federal programs, and support key Administration policies. The EPA has determined that this federal advisory committee is necessary and in the public interest to provide critical advice and recommendations to assist the EPA in increasing outreach to underrepresented and underserved communities by developing a stronger partnership with HBCUs and MSIs.

FOR FURTHER INFORMATION CONTACT: Pradnya Bhandari, Designated Federal Officer, U.S. EPA, 1200 Pennsylvania Avenue NW (Mail code 1448K), Washington, DC 20460, at 202-564-0381 or by email to bhandari.pradnya@epa.gov.

SUPPLEMENTARY INFORMATION: The Historically Black Colleges and Universities and Minority Serving Institutions Advisory Council will be established for a two-year period. Copies of the committee charter will be filed with the appropriate congressional committees and the Library of Congress.

Kathryn Jakob,
Director, Office of Public Engagement.

[FR Doc. 2023-20878 Filed 9-25-23; 8:45 am]

BILLING CODE 6560-50-P